FEDERAL COMMUNICATIONS COMMISSION

47 CFR Part 73

[DA 00-2057; MM Docket No. 99-26; RM-9436, RM-9651, RM-9652]

Radio Broadcasting Services; Pitkin, Lake Charles, Moss Bluff and Reeves, LA., and Crystal Beach, Galveston, Missouri City and Rosenberg, TX

AGENCY: Federal Communications Commission.

ACTION: Final rule.

SUMMARY: At the request of Tichenor License Corporation, this document substitutes Channel 285C3 for Channel 285A at Rosenberg, Texas, reallots Channel 285C3 to Missouri City, Texas, and modifies the Station KOVA license to specify operation on Channel 285C3 at Missouri City. To accommodate this upgrade and reallotment, this document substitutes Channel 287A for Channel 285A at Galveston, Texas, reallots Channel 287A to Crystal Beach, Texas, and modifies the Station KLTO license to specify operation on Channel 287A at Crystal Beach. In order to accommodate Channel 287A at Crystal Beach, this document also substitutes Channel 285C3 for Channel 287C2 at Lake Charles, Louisiana, reallots Channel 285C3 to Moss Bluff, Louisiana, and modifies the Station KZWA license to specify operation on Channel 285C3 at Moss Bluff. Finally, this document denies allotment proposals for Channel 285A at Pitkin, Louisiana, and Channel 285A at Reeves, Louisiana. See 64 FR 7843, published February 17, 2000. The reference coordinates for the Channel 285C3 allotment at Missouri City, Texas, are 29-33-11 and 95-26-35. The reference coordinates for the Channel 287A allotment at Crystal Beach, Texas, are 29-29-36 and 94-31-33. The reference coordinates for the Channel 285C3 allotment at Moss Bluff, Louisiana, are 30-27-06 and 93-08-39.

DATES: Effective October 23, 2000.

FOR FURTHER INFORMATION CONTACT: Robert Hayne, Mass Media Bureau (202) 418-2177.

SUPPLEMENTARY INFORMATION: This is a synopsis of the Commission's Report and Order in MM Docket No. 99-26, adopted August 30, 2000, and released September 8, 2000. The full text of this decision is available for inspection and copying during normal business hours in the FCC's Reference Information Center at Portals II, CY-A257, 445 12th Street, SW, Washington, D.C. The complete text of this decision may also be purchased from the Commission's copy contractor, International Transcription Service, Inc., (202) 857-3800, 1231 20th Street, NW, Washington, D.C. 20036.

List of Subjects in 47 CFR Part 73

Radio Broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Louisiana, is amended by removing Channel 287C2 at Lake Charles, and adding Moss Bluff, Channel 285C3.

3. Section 73.202(b), the Table of FM Allotments under Texas, is amended by removing Rosenberg, Channel 285A, and adding Missouri City, Channel 285C3.

4. Section 73.202(b), the Table of FM Allotments under Texas, is amended by removing Channel 285A at Galveston, and adding Channel 287A at Crystal Beach.

Federal Communications Commission.
John A. Karousos,
Chief, Allocations Branch, Policy and Rules Division, Mass Media Bureau.

[FR Doc. 00-24066 Filed 9-19-00; 8:45 am]

BILLING CODE 6712-01-P